DEPARTMENT OF THE INTERIOR

Fish and Wildlife Service

Draft Environmental Assessment/Habitat Conservation Plan; Issuance of a Section 10(a)(1)(B) Permit for Incidental Take of the Golden-Cheeked Warbler and Black-Capped Vireo by TXU Electric Delivery During the Construction and Operation of a 16-Mile 138 kV Transmission Line in Portions of Bell and Coryell Counties, TX

AGENCY: U.S. Fish and Wildlife Service, Interior.

ACTION: Notice of availability; receipt of application.

SUMMARY: TXU Electric Delivery (Applicant) has applied to the U.S. Fish and Wildlife Service (Service) for an incidental take permit (TE-125388-0) pursuant to section 10(a)(1)(B) of the Endangered Species Act (Act) of 1973, as amended. The requested permit, which is for a period of five years, would authorize incidental take of the golden-cheeked warbler (Dendroica chyrosparia) and black-capped vireo (Vireo atricapilla). The proposed take would occur as a result of the construction and continued operation of a 16-mile (26-kilometer), 138 kV transmission line within Bell and Coryell counties, Texas. We invite the public to review and comment on the permit application and associated draft Environmental Assessment/Habitat Conservation Plan (EA/HCP).

DATES: To ensure consideration, written comments must be received on or before July 25, 2006.

ADDRESSES: Persons wishing to review the application may obtain a copy by writing to the Regional Director, U.S. Fish and Wildlife Service, P.O. Box 1306, Room 4102, Albuquerque, New Mexico 87103. Persons wishing to review the draft EA/HCP may obtain a copy by contacting Scott Rowin, U.S. Fish and Wildlife Service, 10711 Burnet Road, Suite 200, Austin, Texas 78758 (512/490-0057). Documents will be available for public inspection by written request, by appointment only, during normal business hours (8 a.m. to 4:30 p.m.) at the Service's Austin office. Written data or comments concerning the application and draft EA/HCP should be submitted to the Supervisor, U.S. Fish and Wildlife Service, 10711 Burnet Road, Suite 200, Austin, Texas 78758. Please refer to permit number TE-125388-0 when submitting comments. All comments received, including names and addresses, will become a part of the official administrative record and may be made available to the public.

FOR FURTHER INFORMATION CONTACT: Scott Rowin at U.S. Fish and Wildlife Service Austin office, 10711 Burnet Road, Suite 200, Austin, Texas 78758 (512) 490-0057 or by e-mail, Scott_Rowin@fws.gov.

SUPPLEMENTARY INFORMATION: The Applicant has applied to the Service for a section 10(a)(1)(B) incidental take permit for a period of five years in order to authorize incidental take of the golden-cheeked warbler and black-capped vireo.

Section 9 of the Act prohibits the “taking” of endangered species such as the Houston toad. However, the Service, under limited circumstances, may issue permits to take endangered wildlife species incidental to, and not the purpose of, otherwise lawful activities.

We provide this notice under section 10(c) of the Act (16 U.S.C. 1531 et seq.) and its implementing regulations (50 CFR 17.22), and the National Environmental Policy Act (42 U.S.C. 4371 et seq.) and its implementing regulations (40 CFR 1506.6).

As identified in the draft EA/HCP, two alternate alignments (A and B) exist along Sevenmile Mountain for a distance of approximately two miles. It is unknown at this time which alignment will be selected for the transmission line. However, the Applicant requests the issuance of the permit to authorize incidental take of the endangered golden-cheeked warbler and black-capped vireo for either alignment. Regardless of which alignment is selected, the level of mitigation proposed in this permit is based on the maximum acreage of impacts that would result from the installation of the proposed transmission line. The proposed transmission line would be installed in response to increased demands for such services resulting from a growing population within the Applicant's service area.

The addition of this transmission line would provide the capacity and flexibility needed to continue to provide reliable service to the Killeen—Copperas Cove loads.

The action authorized under this permit, if issued, would include the installation of a 138 kV transmission line for a distance of approximately 16 miles between the existing TXU Electric Delivery Copperas Cove Substation and the Brazos Electric Power Cooperative Ding Dong Substation. The proposed right-of-way width of the Proposed Alternative would vary between 16 feet and 70 feet. The proposed area to be permitted encompasses 1,365 acres and would encompass all areas of direct and indirect impact.

The alternative was selected by the Applicant and the Service as the preferred action as it would allow the development of the project while the HCP would minimize and offset the potential impact to the golden-cheeked warbler and black-capped vireo by providing for offsite conservation measures, which would be utilized to better manage the recovery of the species.

Applicant: TXU Electric Delivery has developed an HCP which has been included as part of the preferred alternative that would substantially avoid impacts to the golden-cheeked warbler and black-capped vireo. Impacts that cannot be avoided would be minimized and mitigated to the maximum extent practicable. Mitigation efforts under the proposed HCP would include, contributing $1,690,000 to establish a non-wasting endowment for the golden-cheeked warbler and black-capped vireo management on the 4,500-acre Parrie Haynes Ranch (Ranch). Based on negotiations between TXU Electric Delivery, the Service, Texas Parks and Wildlife Department (TPWD), Texas Parks and Wildlife Foundation, and the Parrie Haynes Trust/Texas Youth Commission (landowner), which were initiated on November 15, 2005, this funding will be used for the establishment of the Ranch as an endangered species management site as mitigation for the affected golden-cheeked warbler and black-capped vireo habitat. Even though no endangered species management currently occurs on the Ranch, golden-cheeked warblers and black-capped vireos currently utilize significant amounts of habitat within the property, thus providing an ideal location for mitigation and enhanced species management. Additionally, the property is located adjacent to Fort Hood, creating an even larger block of actively managed habitat for both species.

The mitigation funding proposal consists of the creation of a non-wasting endowment fund to be maintained by the Texas Parks and Wildlife Foundation, a non-profit organization. As determined by Texas Parks and Wildlife Foundation, to maintain the endowment and management of the site in perpetuity, approximately three to four percent of the interest will be rolled back into the account each year for inflation. The remaining interest will be used for endangered species restoration/enhancement activities and to fund a TPWD Wildlife Biologist/Technician position for endangered species management of the site. Once the endowment is established, TPWD will be responsible for on-going operations, management, and reporting.

The mitigation proposal will enable the Service and TPWD to actively manage significantly more golden-cheeked warbler and black-capped vireo habitat as opposed to acquiring habitat elsewhere. The proposal will assist the Service and TPWD in developing sound land management plans and practices, including but not limited to, assessing habitat conditions, developing land and wildlife/endangered species management plans, endangered species monitoring, vegetation management/manipulation, cowbird management, livestock management, exotic species control, public education, and fencing and other access provisions.

Richard McDonald,
Acting Regional Director, Region 2, Albuquerque, New Mexico.

[FR Doc. E6-8118 Filed 5-25-06; 8:45 am]

BILLING CODE 4310-55-P